NATIONAL CREDIT UNION ADMINISTRATION

Agency Information Collection Activities: Submission to OMB for Review; Comment Request

AGENCY: National Credit Union Administration (NCUA).

ACTION: Request for comment.

SUMMARY: The NCUA is resubmitting the following information collection without change to the Office of Management and Budget (OMB) for review and clearance under the Paperwork Reduction Act of 1995 (Public Law 104-13, 44 U.S.C. Chapter 35). These information collections are published to obtain comments from the public.

DATES: Comments will be accepted until October 31, 2000.

ADDRESSES: Interested parties are invited to submit written comments to NCUA Clearance Officer or OMB Reviewer listed below:

Clearance Officer: Mr. James L. Baylen (703) 518-6411, National Credit Union Administration, 1775 Duke Street, Alexandria, Virginia 22314-3428, Fax No. 703-518-6433, E-mail:jbaylen@ncua.gov.

OMB Reviewer: Alexander T. Hunt (202) 395-7860, Office of Management and Budget, Room 10226, New Executive Office Building, Washington, DC 20503.

FOR FURTHER INFORMATION CONTACT: Copies of the information collection requests, with applicable supporting documentation, may be obtained by calling the: NCUA Clearance Officer, James L. Baylen, (703) 518-6411. It is also available on the following website: www.NCUA.gov.

SUPPLEMENTARY INFORMATION: Proposals for the following collections of information:

OMB Number: 3133-0146.

Form Number: N/A.

Type of Review: Extension of a currently approved collection.

Title: Production of Nonpublic Records and Testimony of Employees in Legal Proceedings.

Respondents: Respondents will most likely be persons involved in legal proceedings.

Estimated No. of Respondents/Recordkeepers: 36.

Estimated Burden Hours Per Response: 2.

Frequency of Response: On occasion.

Estimated Total Annual Burden Hours: 72.

Estimated Total Annual Cost: N/A.

By the National Credit Union Administration Board on August 25, 2000.
Becky Baker,
Secretary of the Board.

[FR Doc. 00-22395 Filed 8-31-00; 8:45 am]

BILLING CODE 7535-01-P